DEPARTMENT OF HOMELAND SECURITY

Federal Emergency Management Agency

[Docket ID FEMA-2014-0002; Internal Agency Docket No. FEMA-B-1452]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before March 16, 2015.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1452, to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. Additionally, the current effective FIRM and FIS report for each community are accessible online through the FEMA Map Service Center at www.msc.fema.gov for comparison.

(Catalog of Federal Domestic Assistance No. 97.022, “Flood Insurance.”)

Dated: November 24, 2014.
Roy E. Wright,
Deputy Associate Administrator for Mitigation, Department of Homeland Security, Federal Emergency Management Agency.

Community | Community map repository address
Winnebago County, Illinois, and Incorporated Areas
Maps Available for Inspection Online at: http://www.fema.gov/preliminaryfloodhazarddata
City of Loves Park | Public Works Department, 100 Heart Boulevard, Loves Park, IL 61111.
City of Rockford | City Hall, 425 East State Street, Rockford, IL 61104.
City of South Beloit | City Hall, 519 Blackhawk Boulevard, South Beloit, IL 61080.
Unincorporated Areas of Winnebago County | County Courthouse, 404 Elm Street, Rockford, IL 61101.
Village of Machesney Park | Planning & Zoning Department, 300 Roosevelt Road, Machesney Park, IL 61115.
Village of Pecatonica | Village Hall, 405 Main Street, Pecatonica, IL 61063.
Village of Rockton | Village Hall, 110 East Main Street, Rockton, IL 61072.
Village of Roscoe | Village Hall, 10631 Main Street, Roscoe, IL 61073.
Polk County, Minnesota, and Incorporated Areas
Maps Available for Inspection Online at: http://www.fema.gov/preliminaryfloodhazarddata
City of Beltrami | 514 Polk Avenue, Beltrami, MN 56517.
City of Climax | Climax City Hall, 102 West Broadway Street, Climax, MN 56523.
City of Crookston | Crookston City Hall, 124 North Broadway, Crookston, MN 56716.
City of East Grand Forks | East Grand Forks City Hall, 600 DeMers Avenue, East Grand Forks, MN 56721.
City of Fertile | Fertile City Hall, 101 South Mill Street, Fertile, MN 56540.
City of Fisher | Fisher City Office, 313 Park Avenue, Suite 111, Fisher, MN 56723.
City of Fosston | Fosston City Hall, 220 East First Street, Fosston, MN 56542.
City of Mcintosh | McIntosh City Hall, 115 Broadway, Northwest, McIntosh, MN 56556.
City of Mentor | Mentor City Hall, 202 Garfield Avenue, North Mentor, MN 56736.
City of Nielsville | Nielsville City Hall, 36943 440th Street, Southwest, Nielsville, MN 56568.
City of Winger | Winger City Hall, 10 East Minnesota Avenue, Winger, MN 56592.
Unincorporated Areas of Polk County | Polk County Government Center, 612 North Broadway, Room 225, Crookston, MN 56716.
Summit County, Ohio, and Incorporated Areas
Maps Available for Inspection Online at: http://www.fema.gov/preliminaryfloodhazarddata
City of Munroe Falls | City Hall, 43 Munroe Falls Avenue, Munroe Falls, OH 44262.
City of Stow | Engineering Department, 3760 Darrow Road, Stow, OH 44224.
Warren County, Ohio, and Incorporated Areas
Maps Available for Inspection Online at: http://www.fema.gov/preliminaryfloodhazarddata
City of Carlisle | City Hall, 760 West Central Avenue, Carlisle, OH 45005.
City of Franklin | City Building, 1 Benjamin Franklin Way, Franklin, OH 45005.
Unincorporated Areas of Warren County | Administration Building, 406 Justice Drive, Room 167, Lebanon, OH 45036.

[FR Doc. 2014-29431 Filed 12-15-14; 8:45 am]

BILLING CODE 9110-12-P